DEPARTMENT OF AGRICULTURE

Submission for OMB Review; Comment Request; Withdrawn

December 22, 2011.

AGENCY: National Agricultural Statistics Service.

ACTION: Notice: Withdrawal.

SUMMARY: The Department of Agriculture published a document in the Federal Register on December 22, 2011, page number 79646 concerning a request for comments on information collection 0535-0039 “Fruits, Nut, and Specialty Crops.” The document is being withdrawn.

Charlene Parker,
Departmental Information Collection Clearance Officer.

[FR Doc. 2011-33360 Filed 12-28-11; 8:45 am]

BILLING CODE 3410-20-P